DEPARTMENT OF COMMERCE

Foreign-Trade Zones Board

[S-39-2018]

Foreign-Trade Zone 78—Nashville, Tennessee; Application for Subzone; CEVA Freight LLC; Mount Juliet and Lebanon, Tennessee

An application has been submitted to the Foreign-Trade Zones (FTZ) Board by the Metropolitan Government of Nashville and Davidson County, grantee of FTZ 78, requesting subzone status for the facilities of CEVA Freight LLC, located in Mount Juliet and Lebanon, Tennessee. The application was submitted pursuant to the provisions of the Foreign-Trade Zones Act, as amended (19 U.S.C. 81a-81u), and the regulations of the FTZ Board (15 CFR part 400). It was formally docketed on February 26, 2018.

The proposed subzone would consist of: Site 1 (32.92 acres), three buildings located at 12002, 12008 and 12014 Volunteer Boulevard, Mount Juliet; and, Site 2 (1.70 acres), one building at 1442C Toshiba Dr., Lebanon. No authorization for production activity has been requested at this time. The proposed subzone would be subject to the existing activation limit of FTZ 78.

In accordance with the FTZ Board's regulations, Kathleen Boyce of the FTZ Staff is designated examiner to review the application and make recommendations to the Executive Secretary.

Public comment is invited from interested parties. Submissions shall be addressed to the FTZ Board's Executive Secretary at the address below. The closing period for their receipt is April 11, 2018. Rebuttal comments in response to material submitted during the foregoing period may be submitted during the subsequent 15-day period to April 26, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Kathleen Boyce at Kathleen.Boyce@trade.gov or (202) 482-1346.

Dated: February 26, 2018.
Andrew McGilvray,
Executive Secretary.

[FR Doc. 2018-04289 Filed 3-1-18; 8:45 am]

BILLING CODE 3510-DS-P